DEPARTMENT OF THE TREASURY

Office of the Comptroller of the Currency

12 CFR Part 24

[Docket ID OCC-2023-0005]

RIN 1557-AF19

National Bank Community Development Investments

AGENCY: Office of the Comptroller of the Currency (OCC), Treasury.

ACTION: Final rule; amendment of a form's expiration date.

SUMMARY: The OCC is making a nonsubstantive amendment to form “CD-1—National Bank Community Development (Part 24) Investments” to reflect the current expiration date assigned by the Office of Management and Budget under the Paperwork Reduction Act.

DATES: The final rule is effective on September 19, 2023.

FOR FURTHER INFORMATION CONTACT: Chandni Ohri, Director for Community Development, (202) 649-6420, 400 7th Street SW, Washington, DC 20219. If you are deaf, hard of hearing, or have a speech disability, please dial 7-1-1 to access telecommunications relay services.

SUPPLEMENTARY INFORMATION: The OCC is amending 12 CFR part 24, Appendix 1 to update the expiration date included on “CD-1—National Bank Community Development (Part 24) Investments” (CD-1 Form) to reflect the current August 31, 2025, expiration date assigned by the Office of Management and Budget (“OMB”) under the Paperwork Reduction Act.

Administrative Law Statements

A. Administrative Procedure Act

The OCC is issuing the final rule without prior notice and the opportunity for public comment and the delayed effective date ordinarily prescribed by the Administrative Procedure Act (APA).¹ Pursuant to section 553(b)(B) of the APA, general notice and the opportunity for public comment are not required with respect to a rulemaking when an “agency for good cause finds (and incorporates the finding and a brief statement of reasons therefor in the rules issued) that notice and public procedure thereon are impracticable, unnecessary, or contrary to the public interest.” ² The final rule merely implements a nonsubstantive amendment to update the CD-1 Form's expiration date in 12 CFR part 24, Appendix 1; therefore, requesting comment or delaying the correction would be unnecessary. For these reasons, the OCC finds that there is good cause to issue the final rule without notice and comment.³

¹ 5 U.S.C. 553.

² 5 U.S.C. 553(b)(B).

³ 5 U.S.C. 553(b)(B); 553(d)(3).

The final rule is effective immediately upon publication in the Federal Register. The APA requires a 30-day delayed effective date, except for (1) substantive rules which grant or recognize an exemption or relieve a restriction; (2) interpretative rules and statements of policy; or (3) as otherwise provided by the agency for good cause.⁴ The final rule merely implements a nonsubstantive amendment to update the CD-1 Form's expiration date and has no substantive effect.⁵ Therefore, the OCC finds good cause to dispense with the 30-day delayed effective date.

⁴ 5 U.S.C. 553(d).

⁵ 5 U.S.C. 553(d)(1).

B. Congressional Review Act

For purposes of the Congressional Review Act, OMB makes a determination as to whether a final rule constitutes a “major” rule.⁶ If a rule is deemed a “major rule” by OMB, the Congressional Review Act generally provides that the rule may not take effect until at least 60 days following its publication.⁷

⁶ 5 U.S.C. 801 et seq.

⁷ 5 U.S.C. 801(a)(3).

The Congressional Review Act defines a “major rule” as any rule that the Administrator of the Office of Information and Regulatory Affairs of the OMB finds has resulted in or is likely to result in (A) an annual effect on the economy of $100,000,000 or more; (B) a major increase in costs or prices for consumers, individual industries, Federal, State, or local government agencies or geographic regions, or (C) significant adverse effects on competition, employment, investment, productivity, innovation, or on the ability of United States-based enterprises to compete with foreign-based enterprises in domestic and export markets.⁸ The OCC currently supervises approximately 1,060 national banks, federal savings associations, trust companies and federal branches and agencies of foreign banks (collectively, banks).⁹ This final rule will update the expiration date of the CD-1 Form that national banks must submit to provide an after-the-fact notice or to request prior approval of a public welfare investment. However, no new information is being collected by the form and no new requirements are being imposed on OCC-supervised institutions. Thus, we expect this change to have no impact and, thus, is not a “major rule” for purposes of the Congressional Review Act.

⁸ 5 U.S.C. 804(2).

⁹ Based on data as of February 28, 2023.

For the same reasons set forth above, the OCC is adopting this final rule without the delayed effective date generally prescribed under the Congressional Review Act. The delayed effective date required by the Congressional Review Act does not apply to “any rule which an agency for good cause finds (and incorporates the finding and a brief statement of reasons therefor in the rule issued) that notice and public procedure thereon are impracticable, unnecessary, or contrary to the public interest.” ¹⁰ In light of the fact that the final rule has no substantive effect and merely updates the expiration date of the CD-1 Form, delaying the effective date of the final rule is unnecessary.

¹⁰ 5 U.S.C. 808(2).

As required by the Congressional Review Act, the OCC will submit the final rule and other appropriate reports to Congress and the Government Accountability Office for review.

C. Paperwork Reduction Act

The Paperwork Reduction Act of 1995 (44 U.S.C. 3501-3521) (PRA) states that no agency may conduct or sponsor, nor is the respondent required to respond to, an information collection unless it displays a currently valid OMB control number. OCC has determined that this final rule does not substantively affect any current information collections or create any new collections. The final rule will update the image of Form CD-1, “National Bank Community Development Investments” (1557-0194), that is included in 12 CFR part 24, Appendix 1 so that it reflects the expiration date of the currently approved information collection.

D. Regulatory Flexibility Act

The Regulatory Flexibility Act (RFA) ¹¹ requires an agency to consider whether the rules it proposes will have a significant economic impact on a substantial number of small entities. The RFA applies only to rules for which an agency publishes a general notice of proposed rulemaking pursuant to 5 U.S.C. 553(b). Consistent with section 553(b)(B) of the APA, the OCC has determined for good cause that general notice and opportunity for public comment is unnecessary, and, therefore, the OCC did not issue a notice of proposed rulemaking. Accordingly, the RFA's requirements relating to initial and final regulatory flexibility analyses do not apply.

¹¹ 5 U.S.C. 601 et seq.

E. Riegle Community Development and Regulatory Improvement Act of 1994

Pursuant to section 302(a) of the Riegle Community Development and Regulatory Improvement Act (RCDRIA),¹² in determining the effective date and administrative compliance requirements for new regulations that impose additional reporting, disclosure, or other requirements on insured depository institutions (IDIs), each Federal banking agency must consider, consistent with the principle of safety and soundness and the public interest, any administrative burdens that such regulations would place on depository institutions, including small depository institutions, and customers of depository institutions, as well as the benefits of such regulations. In addition, section 302(b) of RCDRIA requires new regulations and amendments to regulations that impose additional reporting, disclosures, or other new requirements on IDIs generally to take effect on the first day of a calendar quarter that begins on or after the date on which the regulations are published in final form, with certain exceptions, including for good cause.¹³ For the reasons described above, the OCC finds good cause exists under section 302 of RCDRIA to publish this final rule with an immediate effective date.

¹² 12 U.S.C. 4802(a).

¹³ 12 U.S.C. 4802(b)(1).

F. Use of Plain Language

Section 722 of the Gramm-Leach-Bliley Act ¹⁴ requires the Federal banking agencies to use plain language in all proposed and final rules published after January 1, 2000. The OCC has sought to present the final rule in a simple and straightforward manner.

¹⁴ 12 U.S.C. 4809.

G. Unfunded Mandates

As a general matter, the Unfunded Mandates Act of 1995 (UMRA), 2 U.S.C. 1531 et seq., requires the preparation of a budgetary impact statement before promulgating a rule that includes a Federal mandate that may result in the expenditure by State, local, and tribal governments, in the aggregate, or by the private sector, of $100 million or more in any one year. However, the UMRA does not apply to final rules for which a general notice of proposed rulemaking was not published. See 2 U.S.C. 1532(a). Therefore, because the OCC has found good cause to dispense with notice and comment for this final rule, the OCC has not prepared a budgetary impact statement for the final rule under the UMRA.

List of Subjects in 12 CFR Part 24

Community development, Credit, Investments, Low and moderate income housing, Manpower, National banks, Reporting and recordkeeping requirements, Rural areas, Small businesses.

Authority and Issuance

For the reasons stated in the SUPPLEMENTARY INFORMATION section, the Office of the Comptroller of the Currency amends 12 CFR part 24 as follows:

PART 24—COMMUNITY AND ECONOMIC DEVELOPMENT ENTITIES, COMMUNITY DEVELOPMENT PROJECTS, AND OTHER PUBLIC WELFARE INVESTMENTS

1. The authority citation for part 24 continues to read as follows:

Authority: 12 U.S.C. 24(Eleventh), 93a, 481 and 1818.

2. Revise Appendix 1 to Part 24—CD-1—National Bank Community Development (Part 24) Investments to read as follows:

Appendix 1 to Part 24—CD-1—National Bank Community Development (Part 24) Investments

BILLING CODE 4810-33-P

Benjamin W. McDonough,
Senior Deputy Comptroller and Chief Counsel.

[FR Doc. 2023-20187 Filed 9-18-23; 8:45 am]

BILLING CODE 4810-33-C